DEPARTMENT OF THE INTERIOR

Fish and Wildlife Service

50 CFR Part 17

[Docket No. FWS-HQ-ES-2021-0149; FXES1113090FEDR-245-FF09E21000]

RIN 1018-BG02

Endangered and Threatened Wildlife and Plants; Technical Corrections for Seven Species on the List of Endangered and Threatened Wildlife and Six Species on the List of Endangered and Threatened Plants

AGENCY: Fish and Wildlife Service, Interior.

ACTION: Final rule; technical amendments.

SUMMARY: We, the U.S. Fish and Wildlife Service, announce the correction of errors in the Lists of Endangered and Threatened Wildlife and Plants (Lists) made in previous publications. These corrections of publication errors are editorial in nature and involve no substantive changes to the Lists or any applicable regulations.

DATES: This rule is effective September 10, 2024.

FOR FURTHER INFORMATION CONTACT: Rachel London, Manager, Branch of Delisting and Foreign Species, U.S. Fish and Wildlife Service, MS: ES, 5275 Leesburg Pike, Falls Church, VA 22041-3803; telephone 703-358-2491. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The List of Endangered and Threatened Wildlife and the List of Endangered and Threatened Plants (“Lists”), which are set forth in title 50 of the Code of Federal Regulations (CFR) at §§ 17.11 and 17.12, respectively, contain certain information on the endangered species and threatened species federally listed pursuant to the Endangered Species Act of 1973, as amended (ESA; 16 U.S.C. 1531 et seq.). The information in the Lists includes each listed species' common name and scientific name, the geographic area where the species is listed for purposes of the ESA, its listing status (e.g., endangered), and nonregulatory information providing citations to applicable Federal Register publications and regulations.

The regulations at 50 CFR 17.11(c) and 17.12(b) direct us to use the most recently accepted scientific name of any wildlife or plant species, respectively, that we have determined to be an endangered or threatened species.

Purpose of Final Rule

This final rule revises the Lists at 50 CFR 17.11(h) and 17.12(h) to correct the editorial errors identified below under Summary Table of Editorial Corrections. These corrections are purely administrative and are based on previously published rulemaking documents.

We are publishing this rule without a prior proposal because we previously provided a public comment period on the proposed rules for these taxa and because this is a noncontroversial action that is in the best interest of the public and that should be undertaken in as timely a manner as possible. None of these changes are regulatory in nature; they are for accuracy and clarity. These revisions do not alter species' protections or status in any way. Any actions altering a species' protection or status would require a separate rulemaking action following the procedures of 50 CFR part 424.

Summary Table of Editorial Corrections

The table below identifies the editorial corrections we are making in this rule. The table provides the current listing information for each species to be corrected, the type of error and a description of the correction we are making, and the correction itself.

Where the table refers to the “2016 Reformatting” that means an August 4, 2016, final rule (81 FR 51550) that we published to update the format of the Lists. The purpose of the 2016 Reformatting was to make the Lists easier to understand by changing the format to reflect current practices and standards, to correct identified errors in entries such as footnotes and spelling, and to update common names, among other changes. Following the 2016 Reformatting's publication, however, we identified editorial errors in the updated Lists.

Where the table refers to the “1983 Republication” that means a July 27, 1983, final rule (48 FR 34182) in which we republished the Lists. At that time we republished the Lists annually to incorporate all changes (i.e., additions, reclassifications, and deletions) published as final rules in the Federal Register to date. We have identified an error in the 1983 Republication of the List.

Where the table refers to the “2003 Rule” that means an August 6, 2003, final rule (68 FR 46684) in which we designated critical habitat for 15 previously listed species in California and southern Oregon. The 2003 Rule revised the Lists to add references for each species' newly designated critical habitat. However, this rule also introduced several errors to the Lists.

In the table below, “E” means “endangered,” and “T” means “threatened.” These refer to the listing status of a species. The ESA defines an “endangered species” at 16 U.S.C. 1532(6), and a “threatened species” at 16 U.S.C. 1532(20).

All corrections described in the table are editorial in nature; that is, the correct species' scientific name or listing status were already set forth in a previous rulemaking published in the Federal Register (FR), which we cite in the table. We also correct erroneous FR citations in the Lists, as described in the table below.

Table 1—Editorial Corrections to the Lists
Current listed name | Error: Action | Correction
WILDLIFE
Kangaroo rat, San Bernadino Merriam's (Dipodomys merriami parvus) | Error in 2016 Reformatting: Correcting year of publication in two FR citations | 63 FR 3835, 1/27/1998; 63 FR 51005, 9/24/1998.
Shapo (Ovis vignei vignei) | Error in 1983 Republication: Correcting scientific name and adding relevant listing citation based on 41 FR 24062 (June 14, 1976) | Ovis vignei; 41 FR 24062, 6/14/1976; 41 FR 26019, 6/24/1976.
Squirrel, northern Idaho ground (Spermophilus brunneus brunneus) | Error in 2016 Reformatting: Correcting scientific name based on 80 FR 35860 (June 23, 2015) and correcting page number in one FR citation | Urocitellus brunneus; 65 FR 17779, 4/5/2000.
Gallinule, Hawaiian common (Alae ula) (Gallinula chloropus (=galeata) sandvicensis) | Error in 2016 Reformatting: Correcting scientific name based on 80 FR 35860 (June 23, 2015) | Gallinula galeata sandvicensis.
Plover, western snowy [Pacific Coast population DPS] (Charadrius alexandrinus nivosus) | Error in 2016 Reformatting: Correcting scientific name based on 77 FR 36728 (June 19, 2012) | Charadrius nivosus nivosus.
Beetle, Ohlone tiger (Cicindela ohlone) | Error in 2016 Reformatting: Correcting month of publication in one FR citation | 66 FR 50340, 10/3/2001.
Fairy shrimp, vernal pool (Branchinecta lynchi) | Error in 2003 Rule: Correcting status based on 59 FR 48136 (September 19, 1994) | Status: T.
PLANTS
Florida Brickell-bush (Brickellia mosieri) | Error in 2016 Reformatting: Adding missing status based on 79 FR 52567 (September 4, 2014) | Status: E.
Hairy Orcutt grass (Orcuttia pilosa) | Error in 2003 Rule: Correcting status based on 62 FR 14338 (March 26, 1997) | Status: E.
Sacramento Orcutt grass (Orcuttia viscida) | Error in 2003 Rule: Correcting status based on 62 FR 14338 (March 26, 1997) | Status: E.
Loulu (Pritchardia affinis) | Error in 2016 Reformatting: Removing erroneous entry based on 80 FR 35860 (June 23, 2015) | Remove entry for Pritchardia affinis, as it is the same taxon as P. maideniana.
Greene's tuctoria (Tuctoria greenei) | Error in 2003 Rule: Correcting status based on 62 FR 14338 (March 26, 1997) | Status: E.
Solano grass (Tuctoria mucronata) | Error in 2003 Rule: Correcting status based on 43 FR 44810 (September 28, 1978) | Status: E.

The corrections described in the table above are not regulatory in nature; they are administrative and for the purposes of accuracy and clarity. The corrections do not alter a species' protections or status; an action changing a species' protection or status would require a separate rulemaking following the procedures set forth at 50 CFR part 424.

Administrative Procedure Act

Because we provided a public comment period on the proposed rules for these taxa, and because this action to correct the Lists is administrative in nature, we find good cause that the notice and public comment procedures of 5 U.S.C. 553(b) are unnecessary for this action. We also find good cause under 5 U.S.C. 553(d)(3) to make this rule effective immediately. This rule is an administrative action to provide accurate information for the subject species on the Lists of Endangered and Threatened Wildlife and Plants at 50 CFR 17.11(h) and 17.12(h), respectively; it does not alter a species' protections or status. The public would not be served by delaying the effective date of this rulemaking action.

Required Determinations

National Environmental Policy Act

We have determined that environmental assessments and environmental impact statements, as defined under the authority of the National Environmental Policy Act of 1969 (42 U.S.C. 4321 et seq.), need not be prepared in connection with regulations issued pursuant to section 4(a) of the ESA. We published a notice outlining our reasons for this determination in the Federal Register on October 25, 1983 (48 FR 49244).

Government-to-Government Relationship With Tribes

In accordance with the President's memorandum of April 29, 1994, “Government-to-Government Relations with Native American Tribal Governments” (59 FR 22951), Executive Order 13175, and the Department of the Interior's manual at 512 DM 2, we readily acknowledge our responsibility to communicate meaningfully with recognized Federal Tribes on a government-to-government basis. In accordance with Secretary's Order 3206 of June 5, 1997 (American Indian Tribal Rights, Federal-Tribal Trust Responsibilities, and the Endangered Species Act), we readily acknowledge our responsibilities to work directly with Tribes in developing programs for healthy ecosystems, to acknowledge that Tribal lands are not subject to the same controls as Federal public lands, to remain sensitive to Indian culture, and to make information available to Tribes. We have determined that this rule will not affect Tribes or Tribal lands.

List of Subjects in 50 CFR Part 17

Endangered and threatened species, Exports, Imports, Plants, Reporting and recordkeeping requirements, Transportation, Wildlife.

Regulation Promulgation

For the reasons given in the preamble, we amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; and 4201-4245, unless otherwise noted.

2. Amend § 17.11, in paragraph (h), in the List of Endangered and Threatened Wildlife, by:

a. Under MAMMALS, revising the entries for “Kangaroo rat, San Bernadino Merriam's ”, “Shapo”, and “Squirrel, northern Idaho ground”;

b. Under BIRDS, revising the entries for “Gallinule, Hawaiian common (Alae ula)” and “Plover, western snowy [Pacific Coast population DPS]”;

c. Under INSECTS, revising the entry for “Beetle, Ohlone tiger”; and

d. Under CRUSTACEANS, revising the entry for “Fairy shrimp, vernal pool”.

The revisions read as follows:

§ 17.11 Endangered and threatened wildlife.

* * * * *

(h) * * *

Common name | Scientific name | Where listed | Status | Listing citations and applicable rules
Mammals
* * * * * * *
Kangaroo rat, San Bernadino Merriam's | Dipodomys merriami paryus | Wherever found | E | 63 FR 3835, 1/27/1998; 63 FR 51005, 9/24/1998; 50 CFR 17.95(a).CH
* * * * * * *
Shapo | Ovis vignei | Wherever found | E | 41 FR 24062, 6/14/1976; 41 FR 26019, 6/24/1976.
* * * * * * *
Squirrel, northern Idaho ground | Urocitellus brunneus | Wherever found | T | 65 FR 17779, 4/5/2000.
* * * * * * *
Birds
* * * * * * *
Gallinule, Hawaiian common (Alae ula) | Gallinula galeata sandvicensis | Wherever found | E | 32 FR 4001, 3/11/1967.
* * * * * * *
Plover, western snowy [Pacific Coast population DPS] | Charadrius nivosus nivosus | Pacific Coast population DPS—U.S.A. (CA, OR, WA), Mexico (within 50 miles of Pacific coast) | T | 58 FR 12864, 3/5/1993; 50 CFR 17.95(b).CH
* * * * * * *
Insects
* * * * * * *
Beetle, Ohlone tiger | Cicindela ohlone | Wherever found | E | 66 FR 50340, 10/3/2001.
* * * * * * *
Crustaceans
* * * * * * *
Fairy shrimp, vernal pool | Branchinecta lynchi | Wherever found | T | 59 FR 48136, 9/19/1994; 50 CFR 17.95(h).CH
* * * * * * *

3. Amend § 17.12, in paragraph (h), in the List of Endangered and Threatened Plants, under FLOWERING PLANTS, by:

a. Revising the entries for “Brickellia mosieri”, “Orcuttia pilosa”, and “Orcuttia viscida”;

b. Removing the entry for “Pritchardia affinis”; and

c. Revising the entries for “Tuctoria greenei” and “Tuctoria mucronata”.

The revisions read as follows:

§ 17.12 Endangered and threatened plants.

* * * * *

(h) * * *

Scientific name | Common name | Where listed | Status | Listing citations and applicable rules
Flowering Plants
* * * * * * *
Brickellia mosieri | Florida Brickell-bush | Wherever found | E | 79 FR 52567, 9/4/2014; 50 CFR 17.96(a).CH
* * * * * * *
Orcuttia pilosa | Hairy Orcutt grass | Wherever found | E | 62 FR 14338, 3/26/1997; 50 CFR 17.96(a).CH
* * * * * * *
Orcuttia viscida | Sacramento Orcutt grass | Wherever found | E | 62 FR 14338, 3/26/1997; 50 CFR 17.96(a).CH
* * * * * * *
Tuctoria greenei | Greene's tuctoria | Wherever found | E | 62 FR 14338, 3/26/1997; 50 CFR 17.96(a).CH
Tuctoria mucronata | Solano grass | Wherever found | E | 43 FR 44810, 9/28/1978; 50 CFR 17.96(a).CH
* * * * * * *

Martha Williams,
Director, U.S. Fish and Wildlife Service.

[FR Doc. 2024-20314 Filed 9-9-24; 8:45 am]

BILLING CODE 4333-15-P